DEPARTMENT OF THE INTERIOR

Bureau of Land Management

[LLORW00000 L12200000.AL0000 13XL1109AF.HAG13-0141]

Notice of Temporary Closure to Target Shooting on Public Lands in Yakima County, WA

AGENCY: Bureau of Land Management, Interior.

ACTION: Notice.

SUMMARY: Notice is hereby given that a closure to target shooting is in effect on public lands administered by the Wenatchee Field Office, Spokane District, Bureau of Land Management (BLM). After review and coordination with special interest groups at the local, State, and Federal levels, this temporary closure is in response to target shooting on public lands that poses immediate, serious risks to the safety of nearby residents and participants themselves. The temporary closure is enacted to protect public health and safety.

DATES: This closure will be in effect from the date of publication of this notice in the Federal Register, until 24 months after publication.

FOR FURTHER INFORMATION CONTACT: Linda Coates-Markle, Wenatchee Field Manager, 915 Walla Walla Avenue, Wenatchee, WA 98801; Telephone 509-665-2100. Persons who use a telecommunications device for the deaf (TDD) may call the Federal Information Relay Service (FIRS) at 1-800-877-8339 to contact the above individual during normal business hours. The FIRS is available 24 hours a day, 7 days a week, to leave a message or question with the above individual. You will receive a reply during normal hours.

SUPPLEMENTARY INFORMATION: This Temporary Closure to Target Shooting affects approximately 200 acres of public land administered by the BLM near Konnowac Pass located in the Rattlesnake Hills in Yakima County, Moxee, Washington, T. 12 N., R. 20 E., Section 30, Unnumbered lot in NW¼NW¼, Unnumbered lot in SW¼NW¼, Unnumbered lot in NW¼SW¼, E½NW¼ and NE¼SW¼. The Federal Lands Hunting, Fishing and Shooting Sports Roundtable has been contacted and engaged several times and does not have a concern with this temporary closure after reviewing the proposal. This BLM parcel of land is surrounded by private property with no public access. Until the time that access can be acquired, the Roundtable does not have an interest in assisting with the development of this area for dispersed shooting sports.

The temporary closure is necessary to provide for visitor safety and the safety of the nearby residents. The BLM parcel is adjacent to a residential area. Among the homes near the shooting area, the closest home is 900 feet (1/17 of a mile) away, three homes are within 1,300 feet (¼ mile), and 28 homes are within a mile radius of the shooting area. Bullets from many of the guns used by target shooters are capable of traveling distances of over a mile. The level of recreational shooting and target shooting practice has increased significantly over the past few years and is important to engage these groups to assist in resolving this issue. The BLM has received a signed petition from neighboring landowners describing how ricocheting bullets are landing in their yards, and loud and constant noise from gunfire has negatively affected their quality of life. There is also a concern that given the topography and the location people are shooting from, that users are effectively shooting at each other. In addition, there is a considerable amount of debris left behind that is associated with shooting activity.

Despite the efforts of BLM law enforcement officers to educate the public about safe shooting practices, Tread Lightly's “Respected Access is Open Access” campaign, and Leave No Trace principles, the behavior of target shooters continues to pose serious public safety risks.

The BLM will post closure signs at the main entry points to this area. This closure will be posted at the BLM Wenatchee Field Office and online at: http://www.blm.gov/or/districts/spokane/index.php. Maps of the affected area and other documents associated with this closure (e.g., environmental assessment) are available at the Wenatchee Field Office, 915 Walla Walla Avenue, Wenatchee, WA 98801.

Under the authority of Section 303(a) of the Federal Land Policy and Management Act of 1976 (43 U.S.C. 1733(a)), 43 CFR 8360.0-7, and 43 CFR 8364.1, the BLM will enforce the following rules at the Konnowac Pass Area:

Recreational Shooting and Target Practice are temporarily prohibited in designated areas.

The use of firearms will continue to be allowed for legal hunting activities consistent with Washington Department of Fish and Wildlife regulations and seasons.

Any person who violates this closure may be tried before a United States Magistrate and fined no more than $1,000 or imprisoned for no more than 12 months, or both. Such violations may also be subject to the enhanced fines provided for by 18 U.S.C. 3571.

This 2-year temporary closure will allow the BLM to utilize public input to develop a long-term solution during the ongoing revision of the Eastern Washington and San Juan Resource Management Plan.

Authority: 43 CFR 8364.1.

Daniel C. Picard,
Spokane District Manager.

[FR Doc. 2013-20163 Filed 8-16-13; 8:45 am]

BILLING CODE 4310-33-P